DEPARTMENT OF DEFENSE

Office of the Secretary

Meeting of the President's Information Technology Advisory Committee (formerly the Presidential Advisory Committee on High Performance Computing and Communications, Information Technology, and the Next Generation Internet)

ACTION: Notice of meeting.

SUMMARY: This notice sets forth the schedule and summary agenda for the next meeting of the President's Information Technology Advisory Committee. The meeting will be open to the public. Notice of this meeting is required under the Federal Advisory Committee Act, (Pub. L. 92-463).

DATES: February 7 and 8, 2001.

ADDRESSES: NSF Board Room (Room 1235), National Science Foundation, 4201 Wilson Boulevard, Arlington, VA 22230.

Proposed Schedule and Agenda: The President's Information Technology Advisory Committee (PITAC) will meet in open session from approximately 3:00-5:00 p.m. on February 7 and 8:00 a.m.—2 p.m. on February 8, 2001.

This meeting will include: (1) Updates and reports from the PITAC's panels on: learning, digital libraries; healthcare; the digital divide; and international issues; (2) a discussion of PITAC's newly formed panels, especially national security and individual security; (3) a discussion on information technology and the Federal government; and (4) additional topics, as appropriate.

FOR FURTHER INFORMATION: The National Coordination Office for Information Technology Research and Development (formerly The National Coordination Office for Computing, Information, and Communications) provides information about this Committee on its web site at: http://www.itrd.gov; it can also be reached at (703) 292-4873. Public seating for this meeting is limited, and is available on a first-come, first-served basis.

Dated: January 12, 2001.
L.M. Bynum,
Alternate OSD Federal Register Liaison Officer, Department of Defense.

[FR Doc. 01-1719 Filed 1-19-01; 8:45 am]

BILLING CODE 5001-10-M